DEPARTMENT OF VETERANS AFFAIRS

National Research Advisory Council; Notice of Meeting

The Department of Veterans Affairs (VA) gives notice under the Federal Advisory Committee Act, 5 U.S.C., App. 2, that the National Research Advisory Council will hold a meeting on Wednesday, December 9, 2015, at 810 Vermont Ave. NW., Conference Room 730, Washington, DC 20420. The meeting will convene at 9:00 a.m. and end at 4:00 p.m., and is open to the public. Anyone attending must show a valid photo ID to building security and be escorted to the meeting. Please allow 15 minutes before the meeting begins for this process.

The agenda will include a review of the Million Veteran Program and a joint meeting with the Association of American Medical Colleges.

No time will be allocated at this meeting for receiving oral presentations from the public. Members of the public wanting to attend, or needing further information may contact Pauline Cilladi-Rehrer, Designated Federal Officer, ORD (10P9), Department of Veterans Affairs, 810 Vermont Avenue NW., Washington, DC 20420, at (202) 443-5607, or by email at pauline.cilladi-rehrer@va.gov, at least 5 days prior to the meeting date.

Dated: October 27, 2015.
Rebecca Schiller,
Advisory Committee Management Officer.

[FR Doc. 2015-27680 Filed 10-29-15; 8:45 am]

BILLING CODE 8320-01-P